DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filled in writing with the Director, Division of Trade Adjustment Assistance, at the address shown below, not later than November 1, 2002.

Interested persons are invited to submit written comments regarding the subject matter of the investigations to the Director, Division of Trade Adjustment Assistance, at the address shown below, not later than November 1, 2002.

The petitions filed in this case are available for inspection at the Office of the Director, Division of Trade Adjustment Assistance, Employment and Training Administration, U.S. Department of Labor, Room C-5311, 200 Constitution Avenue, NW., Washington, DC 20210.

Signed at Washington, DC, this 16th day of September, 2002.
Edward A. Tomchick,
Director, Division of Trade Adjustment Assistance.

Appendix
[Petitions instituted on 09/16/2002]
TA-W | Subject firm (petitioners) | Location | Date of petition | Product(s)
42,109 | Ansell Healthcare, Inc (Comp) | Troy, AL | 09/06/2002 | Nitrile gloves.
42,110 | DanAm, Inc. (Comp) | El Paso, TX | 08/27/2002 | Plastic dispensing units, packaging unit.
42,111 | GIII Leather (Wrks) | New York, NY | 08/30/2002 | Leather pants, skirts and coats.
42,112 | Reed Elsever Science (Wrks) | Philadelphia, PA | 08/26/2002 | Medical books typesetting.
42,113 | Wackenhut Security (Wrks) | San Manuel, AZ | 09/04/2002 | Security guard service.
42,114 | Minnesota Brewing Co (Wrks) | St. Paul, MN | 08/15/2002 | Beer, grain belt beer, pigs eye beer.
42,115 | Federal Mogul Corp (Comp) | Seviervile, TN | 08/30/2002 | Lighting applications thermal flashers.
42,116 | XESystems, Inc. (Wrks) | Stamford, CT | 08/29/2002 | Diamond back digital wide body printer.
42,117 | Superior Telecommunication (Wrks) | Tarboro, NC | 08/28/2002 | C-Service wire, underground cable.
42,118 | Lenox China (Wrks) | Oxford, NC | 09/04/2002 | China giftware.
42,119 | J-Star Industries, Inc. (Wrks) | Fort Atkinson, WI | 08/30/2002 | Diary farmstead equipment: feeders, mix.
42,120 | Argyle Industries, Inc (Wrks) | Argyle, WI | 08/28/2002 | Master brake cylinders, water pumps.
42,121 | Agere Systems (Wrks) | Breinigville, PA | 09/04/2002 | Wavelength pump lasers.
42,122 | Neshoba Lumber, LLC (Wrks) | Philadelphia, MS | 08/28/2002 | Lumber.
42,123 | Coleman Cable, Inc. (Comp) | El Paso, TX | 08/27/2002 | Power cords for vacuum cleaners.
42,124 | Norfolk Southern Corp (TWU) | Hollidaysburg, PA | 08/30/2002 | Build and repair freights cars.
42,125 | River Oaks Furniture, Inc (Comp) | Tupelo, MS | 08/30/2002 | Upholstered furniture, sofas, chairs.
42,126 | Northern Cap Mfg. (Wrks) | Minneapolis, MN | 08/23/2002 | Headwear: hats and caps.
42,127 | Sun Apparel (Wrks) | El Paso, TX | 08/30/2002 | Jeans.
42,128 | Kellwood Co (Wrks) | Heflin, AL | 08/27/2002 | Robes, loungewear, swimwear cover-ups.
42,129 | CSPX (Wkrs) | Auburn, ME | 08/29/2002 | Shoe accessories.
42,130 | Hewlett Packard (Wrks) | Vancouver, WA | 09/04/2002 | Print mechanism testing and prototypes.
42,131 | Surgical Corp/East-West (Comp) | Irvington, NY | 08/26/2002 | Wholesale of disposable gauze products.
42,132 | Fashion Star, Inc. (Wrks) | Carrollton, GA | 08/24/2002 | Ladies blouses, skirts, and slacks.
42,133 | Angelica Image Apparel (Comp) | Savannah, TN | 08/26/2002 | Healthcare apparel: tops, pants, gowns.
42,134 | Tyco Electronics (Wrks) | Melbourne, FL | 08/16/2002 | Printed circuit boards.
42,135 | GB Machining (Comp) | San Jose, CA | 08/21/2002 | Machined parts for semiconductors.
42,136 | Goodyear Tire and Rubber (USWA) | Akron, OH | 09/07/2002 | Tire molds and associated components.
42,137 | General Binding Corp (Comp) | Buffalo Grove, IL | 08/26/2002 | Punch and bind machines.
42,138 | Classic Clay Concepts (Comp) | Lake Oswego, OR | 08/26/2002 | Stoneware garden containers.
42,139 | Fabry Industries (Comp) | Green Bay, WI | 08/27/2002 | Gloves and mittens.
42,140 | DeZurik/Copes-Vulcan (Wrks) | Sartell, MN | 08/14/2002 | Valves.
42,141 | Manufacturers' Services (Comp) | Mt Prospect, IL | 08/27/2002 | Modems and other telecommunication equip.
42,142 | Timplate Partners Int'l (Wrks) | Gary, IN | 08/24/2002 | Tinplate steel products for food, house.
42,143 | Dana Corp (Comp) | Hastings, NE | 08/23/2002 | Piston rings.
42,144 | Toyo Tanso PA Graphite (Wrks) | Brookvile, PA | 08/28/2002 | Isomolded graphite.
42,145 | Acme Electronic LLC (IUE) | Cuba, NY | 08/28/2002 | Amplifiers for MRI scanners.
42,146 | Apex Automation (Wrks) | Elizabethtown, PA | 08/28/2002 | Custom automated machinery.
42,147 | Universal Manufacturing (USWA) | Zelienople, PA | 08/29/2002 | Steel scaffolds.
42,148 | Supervalu, Inc (Wrks) | Belle Vernon, PA | 09/04/2002 | Pet foods, water, etc.

[FR Doc. 02-26737 Filed 10-21-02; 8:45 am]

BILLING CODE 4510-30-M